DEPARTMENT OF DEFENSE

Office of the Secretary

Revised Non-Foreign Overseas Per Diem Rates

AGENCY: Defense Travel Management Office, DoD.

ACTION: Notice of revised non-foreign overseas per diem rates.

SUMMARY: The Defense Travel Management Office is publishing Civilian Personnel Per Diem Bulletin Number 308. This bulletin lists revisions in the per diem rates prescribed for U.S. Government employees for official travel in Alaska, Hawaii, Puerto Rico, the Northern Mariana Islands and Possessions of the United States when applicable. Actual Expense Allowance (AEA) changes announced in Bulletin Number 194 remain in effect. Bulletin Number 308 is being published in the Federal Register to assure that travelers are paid per diem at the most current rates.

DATES: These per diem rates are effective September 1, 2018.

FOR FURTHER INFORMATION CONTACT: Ms. Sonia Malik, 571-372-1276.

SUPPLEMENTARY INFORMATION: This document gives notice of revisions in per diem rates prescribed by the Defense Travel Management Office for non-foreign areas outside the contiguous United States. Per Diem Bulletins published periodically in the Federal Register now constitute the only notification of revisions in per diem rates to agencies and establishments outside the Department of Defense. For more information or questions about per diem rates, please contact your local travel office. Civilian Bulletin 308 includes updated rates for Alaska.

Dated: September 11, 2018.
Aaron T. Siegel,
Alternate OSD Federal Register Liaison Officer, Department of Defense.

Country/State | Locality | Season start | Season end | Lodging | M&IE | Total per diem | Effective date
ALASKA | [OTHER] | 01/01 | 12/31 | 120 | 97 | 217 | 09/01/2018
ALASKA | ADAK | 09/02 | 04/30 | 192 | 57 | 249 | 09/01/2018
ALASKA | ADAK | 05/01 | 09/01 | 270 | 57 | 327 | 09/01/2018
ALASKA | ANCHORAGE [INCL NAV RES] | 05/01 | 08/31 | 229 | 130 | 359 | 09/01/2018
ALASKA | ANCHORAGE [INCL NAV RES] | 09/01 | 04/30 | 199 | 130 | 329 | 09/01/2018
ALASKA | BARROW | 04/01 | 08/31 | 320 | 135 | 455 | 09/01/2018
ALASKA | BARROW | 09/01 | 03/31 | 252 | 135 | 387 | 09/01/2018
ALASKA | BARTER ISLAND LRRS | 01/01 | 12/31 | 120 | 97 | 217 | 09/01/2018
ALASKA | BETHEL | 01/01 | 12/31 | 219 | 108 | 327 | 03/01/2017
ALASKA | BETTLES | 01/01 | 12/31 | 175 | 79 | 254 | 09/01/2018
ALASKA | CAPE LISBURNE LRRS | 01/01 | 12/31 | 120 | 97 | 217 | 09/01/2018
ALASKA | CAPE NEWENHAM LRRS | 01/01 | 12/31 | 120 | 97 | 217 | 09/01/2018
ALASKA | CAPE ROMANZOF LRRS | 01/01 | 12/31 | 120 | 97 | 217 | 09/01/2018
ALASKA | CLEAR AB | 01/01 | 12/31 | 120 | 97 | 217 | 09/01/2018
ALASKA | COLD BAY | 01/01 | 12/31 | 110 | 89 | 199 | 09/01/2018
ALASKA | COLD BAY LRRS | 01/01 | 12/31 | 120 | 97 | 217 | 09/01/2018
ALASKA | COLDFOOT | 01/01 | 12/31 | 165 | 70 | 235 | 10/01/2006
ALASKA | COPPER CENTER | 05/15 | 09/15 | 169 | 84 | 253 | 03/01/2017
ALASKA | COPPER CENTER | 09/16 | 05/14 | 97 | 84 | 181 | 03/01/2017
ALASKA | CORDOVA | 01/01 | 12/31 | 140 | 117 | 257 | 09/01/2018
ALASKA | CRAIG | 04/01 | 09/30 | 254 | 78 | 332 | 03/01/2017
ALASKA | CRAIG | 10/01 | 03/31 | 90 | 78 | 168 | 03/01/2017
ALASKA | DEADHORSE | 01/01 | 12/31 | 170 | 55 | 225 | 09/01/2018
ALASKA | DELTA JUNCTION | 05/01 | 09/30 | 169 | 91 | 260 | 09/01/2018
ALASKA | DELTA JUNCTION | 10/01 | 04/30 | 139 | 91 | 230 | 09/01/2018
ALASKA | DENALI NATIONAL PARK | 06/01 | 08/31 | 185 | 86 | 271 | 03/01/2017
ALASKA | DENALI NATIONAL PARK | 09/01 | 05/31 | 139 | 86 | 225 | 03/01/2017
ALASKA | DILLINGHAM | 10/01 | 03/31 | 245 | 128 | 373 | 09/01/2018
ALASKA | DILLINGHAM | 04/01 | 09/30 | 285 | 128 | 413 | 09/01/2018
ALASKA | DUTCH HARBOR-UNALASKA | 01/01 | 12/31 | 142 | 123 | 265 | 09/01/2018
ALASKA | EARECKSON AIR STATION | 01/01 | 12/31 | 146 | 74 | 220 | 07/01/2016
ALASKA | EIELSON AFB | 05/16 | 09/15 | 154 | 97 | 251 | 09/01/2018
ALASKA | EIELSON AFB | 09/16 | 05/15 | 75 | 97 | 172 | 09/01/2018
ALASKA | ELFIN COVE | 01/01 | 12/31 | 275 | 86 | 361 | 03/01/2017
ALASKA | ELMENDORF AFB | 05/01 | 08/31 | 229 | 130 | 359 | 09/01/2018
ALASKA | ELMENDORF AFB | 09/01 | 04/30 | 199 | 130 | 329 | 09/01/2018
ALASKA | FAIRBANKS | 05/16 | 09/15 | 154 | 97 | 251 | 09/01/2018
ALASKA | FAIRBANKS | 09/16 | 05/15 | 75 | 97 | 172 | 09/01/2018
ALASKA | FOOTLOOSE | 01/01 | 12/31 | 175 | 18 | 193 | 10/01/2002
ALASKA | FORT YUKON LRRS | 01/01 | 12/31 | 120 | 97 | 217 | 09/01/2018
ALASKA | FT. GREELY | 10/01 | 04/30 | 139 | 91 | 230 | 09/01/2018
ALASKA | FT. GREELY | 05/01 | 09/30 | 169 | 91 | 260 | 09/01/2018
ALASKA | FT. RICHARDSON | 05/01 | 08/31 | 229 | 130 | 359 | 09/01/2018
ALASKA | FT. RICHARDSON | 09/01 | 04/30 | 199 | 130 | 329 | 09/01/2018
ALASKA | FT. WAINWRIGHT | 05/16 | 09/15 | 154 | 97 | 251 | 09/01/2018
ALASKA | FT. WAINWRIGHT | 09/16 | 05/15 | 75 | 97 | 172 | 09/01/2018
ALASKA | GAMBELL | 01/01 | 12/31 | 133 | 55 | 188 | 09/01/2018
ALASKA | GLENNALLEN | 05/15 | 09/15 | 169 | 84 | 253 | 03/01/2017
ALASKA | GLENNALLEN | 09/16 | 05/14 | 97 | 84 | 181 | 03/01/2017
ALASKA | HAINES | 01/01 | 12/31 | 107 | 101 | 208 | 01/01/2011
ALASKA | HEALY | 06/01 | 08/31 | 185 | 86 | 271 | 03/01/2017
ALASKA | HEALY | 09/01 | 05/31 | 139 | 86 | 225 | 03/01/2017
ALASKA | HOMER | 10/01 | 02/28 | 100 | 118 | 218 | 09/01/2018
ALASKA | HOMER | 03/01 | 09/30 | 180 | 118 | 298 | 09/01/2018
ALASKA | JB ELMENDORF-RICHARDSON | 05/01 | 08/31 | 229 | 130 | 359 | 09/01/2018
ALASKA | JB ELMENDORF-RICHARDSON | 09/01 | 04/30 | 199 | 130 | 329 | 09/01/2018
ALASKA | JUNEAU | 04/16 | 09/15 | 189 | 133 | 322 | 09/01/2018
ALASKA | JUNEAU | 09/16 | 04/15 | 169 | 133 | 302 | 09/01/2018
ALASKA | KAKTOVIK | 01/01 | 12/31 | 165 | 86 | 251 | 10/01/2002
ALASKA | KAVIK CAMP | 01/01 | 12/31 | 250 | 51 | 301 | 03/01/2016
ALASKA | KENAI-SOLDOTNA | 05/01 | 09/30 | 179 | 103 | 282 | 03/01/2017
ALASKA | KENAI-SOLDOTNA | 10/01 | 04/30 | 99 | 103 | 202 | 03/01/2017
ALASKA | KENNICOTT | 01/01 | 12/31 | 295 | 89 | 384 | 03/01/2017
ALASKA | KETCHIKAN | 05/01 | 09/01 | 220 | 133 | 353 | 09/01/2018
ALASKA | KETCHIKAN | 09/02 | 04/30 | 148 | 133 | 281 | 09/01/2018
ALASKA | KING SALMON | 05/01 | 10/01 | 225 | 91 | 316 | 10/01/2002
ALASKA | KING SALMON | 10/02 | 04/30 | 125 | 81 | 206 | 10/01/2002
ALASKA | KING SALMON LRRS | 01/01 | 12/31 | 120 | 97 | 217 | 09/01/2018
ALASKA | KLAWOCK | 04/01 | 09/30 | 254 | 78 | 332 | 03/01/2017
ALASKA | KLAWOCK | 10/01 | 03/31 | 90 | 78 | 168 | 03/01/2017
ALASKA | KODIAK | 05/01 | 09/30 | 180 | 109 | 289 | 09/01/2018
ALASKA | KODIAK | 10/01 | 04/30 | 157 | 109 | 266 | 09/01/2018
ALASKA | KOTZEBUE | 06/01 | 11/30 | 299 | 154 | 453 | 09/01/2018
ALASKA | KOTZEBUE | 12/01 | 05/31 | 279 | 154 | 433 | 09/01/2018
ALASKA | KULIS AGS | 05/01 | 08/31 | 229 | 130 | 359 | 09/01/2018
ALASKA | KULIS AGS | 09/01 | 04/30 | 199 | 130 | 329 | 09/01/2018
ALASKA | MCCARTHY | 01/01 | 12/31 | 295 | 89 | 384 | 03/01/2017
ALASKA | MCGRATH | 01/01 | 12/31 | 160 | 75 | 235 | 03/01/2017
ALASKA | MURPHY DOME | 05/16 | 09/15 | 154 | 97 | 251 | 09/01/2018
ALASKA | MURPHY DOME | 09/16 | 05/15 | 75 | 97 | 172 | 09/01/2018
ALASKA | NOME | 06/01 | 11/30 | 185 | 134 | 319 | 09/01/2018
ALASKA | NOME | 12/01 | 05/31 | 165 | 134 | 299 | 09/01/2018
ALASKA | NOSC ANCHORAGE | 05/01 | 08/31 | 229 | 130 | 359 | 09/01/2018
ALASKA | NOSC ANCHORAGE | 09/01 | 04/30 | 199 | 130 | 329 | 09/01/2018
ALASKA | NUIQSUT | 01/01 | 12/31 | 234 | 55 | 289 | 09/01/2018
ALASKA | OLIKTOK LRRS | 01/01 | 12/31 | 120 | 97 | 217 | 09/01/2018
ALASKA | PALMER | 03/01 | 10/31 | 103 | 124 | 227 | 09/01/2018
ALASKA | PALMER | 11/01 | 02/28 | 85 | 124 | 209 | 09/01/2018
ALASKA | PETERSBURG | 01/01 | 12/31 | 120 | 97 | 217 | 09/01/2018
ALASKA | POINT BARROW LRRS | 01/01 | 12/31 | 120 | 97 | 217 | 09/01/2018
ALASKA | POINT HOPE | 01/01 | 12/31 | 200 | 94 | 294 | 09/01/2018
ALASKA | POINT LAY | 01/01 | 12/31 | 295 | 51 | 346 | 03/01/2017
ALASKA | POINT LAY LRRS | 01/01 | 12/31 | 295 | 51 | 346 | 03/01/2017
ALASKA | POINT LONELY LRRS | 01/01 | 12/31 | 120 | 97 | 217 | 09/01/2018
ALASKA | PORT ALEXANDER | 01/01 | 12/31 | 210 | 51 | 261 | 09/01/2018
ALASKA | PORT ALSWORTH | 01/01 | 12/31 | 135 | 88 | 223 | 10/01/2002
ALASKA | PRUDHOE BAY | 01/01 | 12/31 | 170 | 55 | 225 | 09/01/2018
ALASKA | SELDOVIA | 03/01 | 09/30 | 180 | 118 | 298 | 09/01/2018
ALASKA | SELDOVIA | 10/01 | 02/28 | 100 | 118 | 218 | 09/01/2018
ALASKA | SEWARD | 10/01 | 04/30 | 159 | 105 | 264 | 09/01/2018
ALASKA | SEWARD | 05/01 | 09/30 | 279 | 105 | 384 | 09/01/2018
ALASKA | SITKA-MT. EDGECUMBE | 10/01 | 03/31 | 182 | 129 | 311 | 09/01/2018
ALASKA | SITKA-MT. EDGECUMBE | 04/01 | 09/30 | 245 | 129 | 374 | 09/01/2018
ALASKA | SKAGWAY | 05/01 | 09/01 | 220 | 133 | 353 | 09/01/2018
ALASKA | SKAGWAY | 09/02 | 04/30 | 148 | 133 | 281 | 09/01/2018
ALASKA | SLANA | 05/01 | 09/30 | 139 | 55 | 194 | 02/01/2005
ALASKA | SLANA | 10/01 | 04/30 | 99 | 55 | 154 | 02/01/2005
ALASKA | SPARREVOHN LRRS | 01/01 | 12/31 | 120 | 97 | 217 | 09/01/2018
ALASKA | SPRUCE CAPE | 05/01 | 09/30 | 180 | 109 | 289 | 09/01/2018
ALASKA | SPRUCE CAPE | 10/01 | 04/30 | 157 | 109 | 266 | 09/01/2018
ALASKA | ST. GEORGE | 01/01 | 12/31 | 220 | 51 | 271 | 03/01/2016
ALASKA | TALKEETNA | 01/01 | 12/31 | 100 | 89 | 189 | 10/01/2002
ALASKA | TANANA | 06/01 | 11/30 | 185 | 134 | 319 | 09/01/2018
ALASKA | TANANA | 12/01 | 05/31 | 165 | 134 | 299 | 09/01/2018
ALASKA | TATALINA LRRS | 01/01 | 12/31 | 120 | 97 | 217 | 09/01/2018
ALASKA | TIN CITY LRRS | 01/01 | 12/31 | 120 | 97 | 217 | 09/01/2018
ALASKA | TOK | 01/01 | 12/31 | 99 | 108 | 207 | 09/01/2018
ALASKA | TZLKECTNZ | 06/01 | 09/04 | 199 | 106 | 305 | 09/01/2018
ALASKA | TZLKECTNZ | 09/05 | 05/31 | 120 | 106 | 226 | 09/01/2018
ALASKA | VALDEZ | 05/01 | 09/09 | 185 | 130 | 315 | 09/01/2018
ALASKA | VALDEZ | 09/10 | 04/30 | 179 | 130 | 309 | 09/01/2018
ALASKA | WAINWRIGHT | 01/01 | 12/31 | 175 | 83 | 258 | 01/01/2011
ALASKA | WAKE ISLAND DIVERT AIRFIELD | 01/01 | 12/31 | 120 | 97 | 217 | 09/01/2018
ALASKA | WASILLA | 09/16 | 05/14 | 90 | 101 | 191 | 09/01/2018
ALASKA | WASILLA | 05/15 | 09/15 | 170 | 101 | 271 | 09/01/2018
ALASKA | WRANGELL | 05/01 | 09/01 | 220 | 133 | 353 | 09/01/2018
ALASKA | WRANGELL | 09/02 | 04/30 | 148 | 133 | 281 | 09/01/2018
ALASKA | YAKUTAT | 01/01 | 12/31 | 105 | 94 | 199 | 01/01/2011
AMERICAN SAMOA | AMERICAN SAMOA | 01/01 | 12/31 | 139 | 77 | 216 | 11/01/2017
AMERICAN SAMOA | PAGO PAGO | 01/01 | 12/31 | 139 | 77 | 216 | 11/01/2017
GUAM | GUAM (INCL ALL MIL INSTAL) | 01/01 | 12/31 | 159 | 87 | 246 | 07/01/2015
GUAM | JOINT REGION MARIANAS (ANDERSEN) | 01/01 | 12/31 | 159 | 87 | 246 | 07/01/2015
GUAM | JOINT REGION MARIANAS (NAVAL BASE) | 01/01 | 12/31 | 159 | 87 | 246 | 07/01/2015
GUAM | TAMUNING | 01/01 | 12/31 | 159 | 87 | 246 | 12/01/2015
HAWAII | [OTHER] | 01/01 | 12/31 | 199 | 117 | 316 | 08/01/2017
HAWAII | CAMP H M SMITH | 01/01 | 12/31 | 177 | 138 | 315 | 08/01/2017
HAWAII | EASTPAC NAVAL COMP TELE AREA | 01/01 | 12/31 | 177 | 138 | 315 | 08/01/2017
HAWAII | FT. DERUSSEY | 01/01 | 12/31 | 177 | 138 | 315 | 08/01/2017
HAWAII | FT. SHAFTER | 01/01 | 12/31 | 177 | 138 | 315 | 08/01/2017
HAWAII | HICKAM AFB | 01/01 | 12/31 | 177 | 138 | 315 | 08/01/2017
HAWAII | HILO | 01/01 | 12/31 | 199 | 117 | 316 | 08/01/2017
HAWAII | HONOLULU | 01/01 | 12/31 | 177 | 138 | 315 | 08/01/2017
HAWAII | ISLE OF HAWAII: HILO | 01/01 | 12/31 | 199 | 117 | 316 | 08/01/2017
HAWAII | ISLE OF HAWAII: OTHER | 12/18 | 03/25 | 239 | 161 | 400 | 08/01/2017
HAWAII | ISLE OF HAWAII: OTHER | 03/26 | 12/17 | 189 | 161 | 350 | 08/01/2017
HAWAII | ISLE OF KAUAI | 01/01 | 12/31 | 325 | 135 | 460 | 04/01/2016
HAWAII | ISLE OF MAUI | 01/01 | 12/31 | 269 | 160 | 429 | 08/01/2017
HAWAII | ISLE OF OAHU | 01/01 | 12/31 | 177 | 138 | 315 | 08/01/2017
HAWAII | JB PEARL HARBOR-HICKAM | 01/01 | 12/31 | 177 | 138 | 315 | 08/01/2017
HAWAII | KAPOLEI | 01/01 | 12/31 | 177 | 138 | 315 | 08/01/2017
HAWAII | KEKAHA PACIFIC MISSILE RANGE FAC | 01/01 | 12/31 | 325 | 135 | 460 | 04/01/2016
HAWAII | KILAUEA MILITARY CAMP | 01/01 | 12/31 | 199 | 117 | 316 | 08/01/2017
HAWAII | LANAI | 01/01 | 12/31 | 254 | 111 | 365 | 08/01/2017
HAWAII | LIHUE | 01/01 | 12/31 | 325 | 135 | 460 | 04/01/2016
HAWAII | LUALUALEI NAVAL MAGAZINE | 01/01 | 12/31 | 177 | 138 | 315 | 08/01/2017
HAWAII | MCB HAWAII | 01/01 | 12/31 | 177 | 138 | 315 | 08/01/2017
HAWAII | MOLOKAI | 01/01 | 12/31 | 176 | 115 | 291 | 08/01/2017
HAWAII | NOSC PEARL HARBOR | 01/01 | 12/31 | 177 | 138 | 315 | 08/01/2017
HAWAII | PEARL HARBOR | 01/01 | 12/31 | 177 | 138 | 315 | 08/01/2017
HAWAII | PMRF BARKING SANDS | 01/01 | 12/31 | 325 | 135 | 460 | 10/01/2016
HAWAII | SCHOFIELD BARRACKS | 01/01 | 12/31 | 177 | 138 | 315 | 08/01/2017
HAWAII | TRIPLER ARMY MEDICAL CENTER | 01/01 | 12/31 | 177 | 138 | 315 | 08/01/2017
HAWAII | WAHIAWA NCTAMS PAC | 01/01 | 12/31 | 177 | 138 | 315 | 08/01/2017
HAWAII | WHEELER ARMY AIRFIELD | 01/01 | 12/31 | 177 | 138 | 315 | 08/01/2017
MIDWAY ISLANDS | MIDWAY ISLANDS | 01/01 | 12/31 | 125 | 81 | 206 | 08/01/2017
NORTHERN MARIANA ISLANDS | [OTHER] | 01/01 | 12/31 | 69 | 84 | 153 | 08/01/2017
NORTHERN MARIANA ISLANDS | ROTA | 01/01 | 12/31 | 130 | 107 | 237 | 07/01/2015
NORTHERN MARIANA ISLANDS | SAIPAN | 01/01 | 12/31 | 161 | 101 | 262 | 08/01/2017
NORTHERN MARIANA ISLANDS | TINIAN | 01/01 | 12/31 | 69 | 84 | 153 | 08/01/2017
PUERTO RICO | [OTHER] | 01/01 | 12/31 | 109 | 112 | 221 | 06/01/2012
PUERTO RICO | AGUADILLA | 01/01 | 12/31 | 171 | 84 | 255 | 11/01/2015
PUERTO RICO | BAYAMON | 12/01 | 05/31 | 195 | 88 | 283 | 12/01/2015
PUERTO RICO | BAYAMON | 06/01 | 11/30 | 167 | 88 | 255 | 12/01/2015
PUERTO RICO | CAROLINA | 12/01 | 05/31 | 195 | 88 | 283 | 12/01/2015
PUERTO RICO | CAROLINA | 06/01 | 11/30 | 167 | 88 | 255 | 12/01/2015
PUERTO RICO | CEIBA | 01/01 | 12/31 | 139 | 92 | 231 | 10/01/2012
PUERTO RICO | CULEBRA | 01/01 | 12/31 | 150 | 98 | 248 | 03/01/2012
PUERTO RICO | FAJARDO [INCL ROOSEVELT RDS NAVSTAT] | 01/01 | 12/31 | 139 | 92 | 231 | 10/01/2012
PUERTO RICO | FT. BUCHANAN [INCL GSA SVC CTR, GUAYNABO] | 12/01 | 05/31 | 195 | 88 | 283 | 12/01/2015
PUERTO RICO | FT. BUCHANAN [INCL GSA SVC CTR, GUAYNABO] | 06/01 | 11/30 | 167 | 88 | 255 | 12/01/2015
PUERTO RICO | HUMACAO | 01/01 | 12/31 | 139 | 92 | 231 | 10/01/2012
PUERTO RICO | LUIS MUNOZ MARIN IAP AGS | 12/01 | 05/31 | 195 | 88 | 283 | 12/01/2015
PUERTO RICO | LUIS MUNOZ MARIN IAP AGS | 06/01 | 11/30 | 167 | 88 | 255 | 12/01/2015
PUERTO RICO | LUQUILLO | 01/01 | 12/31 | 139 | 92 | 231 | 10/01/2012
PUERTO RICO | MAYAGUEZ | 01/01 | 12/31 | 109 | 112 | 221 | 09/01/2010
PUERTO RICO | PONCE | 01/01 | 12/31 | 149 | 89 | 238 | 09/01/2012
PUERTO RICO | RIO GRANDE | 01/01 | 12/31 | 169 | 123 | 292 | 06/01/2012
PUERTO RICO | SABANA SECA [INCL ALL MILITARY] | 12/01 | 05/31 | 195 | 88 | 283 | 12/01/2015
PUERTO RICO | SABANA SECA [INCL ALL MILITARY] | 06/01 | 11/30 | 167 | 88 | 255 | 12/01/2015
PUERTO RICO | SAN JUAN & NAV RES STA | 06/01 | 11/30 | 167 | 88 | 255 | 12/01/2015
PUERTO RICO | SAN JUAN & NAV RES STA | 12/01 | 05/31 | 195 | 88 | 283 | 12/01/2015
PUERTO RICO | VIEQUES | 01/01 | 12/31 | 175 | 95 | 270 | 03/01/2012
VIRGIN ISLANDS (U.S.) | ST. CROIX | 12/15 | 04/14 | 299 | 116 | 415 | 06/01/2015
VIRGIN ISLANDS (U.S.) | ST. CROIX | 04/15 | 12/14 | 247 | 110 | 357 | 06/01/2015
VIRGIN ISLANDS (U.S.) | ST. JOHN | 12/04 | 04/30 | 230 | 113 | 343 | 08/01/2015
VIRGIN ISLANDS (U.S.) | ST. JOHN | 05/01 | 12/03 | 170 | 107 | 277 | 08/01/2015
VIRGIN ISLANDS (U.S.) | ST. THOMAS | 04/15 | 12/15 | 249 | 110 | 359 | 03/01/2017
VIRGIN ISLANDS (U.S.) | ST. THOMAS | 12/16 | 04/14 | 339 | 110 | 449 | 03/01/2017
WAKE ISLAND | WAKE ISLAND | 01/01 | 12/31 | 129 | 70 | 199 | 07/01/2016

[FR Doc. 2018-20077 Filed 9-14-18; 8:45 am]

BILLING CODE 5001-06-P